DEPARTMENT OF DEFENSE

Office of the Secretary

[Transmittal No. 25-0W]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0W.

Dated: January 22, 2026.
Stephanie J. Bost,
Alternate OSD Federal Register Liaison Officer, Department of Defense.

BILLING CODE 6001-FR-P

BILLING CODE 6001-FR-C

Transmittal No. 25-0W

REPORT OF ENHANCEMENT OR UPGRADE OF SENSITIVITY OF TECHNOLOGY OR CAPABILITY (SEC. 36(B)(5)(C), AECA)

(i) Prospective Purchaser: Government of the United Kingdom

(ii) Sec. 36(b)(1), AECA Transmittal No.: 18-03

Date: July 10, 2018

Implementing Agency: Air Force

(iii) Description: On July 10, 2018, Congress was notified by congressional certification transmittal number 18-03 of the possible sale, under Section 36(b)(1) of the Arms Export Control Act, of up to two hundred (200) AIM-120D Advanced Medium Range Air-to-Air Missiles (AMRAAM). Also included in this sale were missile containers; weapon system support equipment; support and test equipment; site surveys; transportation; repair and return support; warranties; spare and repair parts; publications and technical documentation; maintenance and personnel training; training equipment; United States (U.S.) Government and contractor engineering, logistics, and technical support services; and other related elements of logistics and program support. The estimated total cost was $650 million. Major Defense Equipment (MDE) constituted $600 million of this total.

On March 12, 2019, Congress was notified by congressional certification transmittal number 0C-19, of the addition of MDE items from what was originally notified: one (1) AMRAAM AIM-120D Integrated Test Vehicle (ITV) and ten (10) AMRAAM Instrumented Air Vehicles. Additionally, this transmittal updated the notification of non-MDE to add embedded communication security devices. The addition of these items resulted in a net increase in cost of MDE to $618 million. The total case value remained $650 million.

On November 20, 2024, Congress was notified by congressional certification transmittal number 24-0V, of the inclusion of the following MDE items: fifty-six (56) AIM-120D Advanced Medium Range Air-to-Air Missiles (AMRAAM); and four (4) AIM-120 AMRAAM guidance sections. The following non-MDE items were also included: weapons systems support and weapons support equipment. The estimated total value of the new items was $174 million but did not result in an increase to the estimated total case value of $650 million. The estimated total MDE value remained at $618 million of this total.

This transmittal notifies the inclusion of the following additional MDE items: two hundred forty-four (244) AIM-120D Advanced Medium Range Air-to-Air Missiles (AMRAAM); four (4) AIM-120D-3 AMRAAM guidance sections; and one (1) AMRAAM Integrated Test Vehicle (ITV). The following non-MDE items will also be included: AMRAAM containers, components, parts, and support equipment; KGV-135A embedded communications security (COMSEC) device; and other related elements of logistics and program support. The estimated total value of the new items is $790 million. The estimated MDE value will increase by $742 million. The estimated non-MDE value will increase by $48 million to a revised $80 million. The estimated total cost will increase by $790 million to a revised $1.44 billion. MDE will constitute $1.36 billion of this total.

(iv) Significance: This notification is being provided as the additional MDE items were not enumerated in the original notification. The inclusion of this MDE represents an increase in capability over what was previously notified.

(v) Justification: This proposed sale will support the foreign policy and national security objectives of the U.S. by improving the security of a key NATO Ally that is an important force for political stability and economic progress in Europe.

(vi) Sensitivity of Technology:

The KGV-135A embedded COMSEC device is a high-speed general purpose encryptor and decryptor module used for wideband data encryption.

The highest level of classification of defense articles, components, and services included in this potential sale is SECRET.

(vii) Date Report Delivered to Congress: September 10, 2025

[FR Doc. 2026-01489 Filed 1-26-26; 8:45 am]

BILLING CODE 6001-FR-P